SMALL BUSINESS ADMINISTRATION

[Declaration of Economic Injury Disaster #9I79]

State of Colorado; (And Contiguous Counties in Arizona, New Mexico, and Utah)

Montezuma County and the contiguous counties of Dolores, La Plata, and San Juan in the State of Colorado; Apache County, Arizona; San Juan County, New Mexico; and San Juan County, Utah constitute an economic injury disaster loan area due to wildfires that occurred from July 20 through August 14, 2000. Eligible small businesses and small agricultural cooperatives without credit available elsewhere may file applications for economic injury assistance as a result of this disaster until the close of business on June 14, 2001 at the address listed below or other locally announced locations: U.S. Small Business Administration, Disaster Area 3 Office, 4400 Amon Carter Blvd., Suite 102, Fort Worth, TX 76155.

The interest rate for eligible small businesses and small agricultural cooperatives is 4 percent. The numbers assigned to this disaster are 9I7900 for Colorado, 9I8000 for Arizona, 9I8100 for New Mexico, and 9I8200 for Utah.

(Catalog of Federal Domestic Assistance Program No. 59002)

Dated: September 14, 2000.
Aida Alvarez,
Administrator.

[FR Doc. 00-24474 Filed 9-22-00; 8:45 am]

BILLING CODE 8025-01-P